DEPARTMENT OF THE INTERIOR

National Park Service

National Register of Historic Places; Notification of Pending Nominations

Nominations for the following properties being considered for listing in the National Register were received by the National Park Service before December 4, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by January 5, 2005.

Carol D. Shull,
Keeper of the National Register of Historic Places.

COLORADO

Montrose County

Silesca Ranger Station, Grand Mesa, Uncompahgre and Gunnison National Forest, Grand Mesa, 04001464

CONNECTICUT

Hartford County

Hilltop Farm, 1550-1760 Mapleton Ave., Suffield, 04001463

Phoenix Life Insurance Company Building, One American Row, Hartford, 04001462

New London County

Palmer, John, House, 291 N. Burnham Hwy., Lisbon, 04001461

GEORGIA

Floyd County

Sardis Presbyterian Church and Cemetery, 7104 GA 20 NW., Coosa, 04001468

Glynn County

King and Prince Hotel, 201 Arnold Rd., St. Simons Island, 04001465

Taylor County

Butler Downtown Historic District, (Georgia County Courthouses TR (AD)), Downtown Butler centered on the courthouse square and includes resources on Main St., Broad St. and Ivey St., Butler, 04001466

Walker County

Marsh—Warthen House, N. Main St., Lafayette, 04001467

LOUISIANA

Evangeline Parish

Bank of Ville Platte, 102 W. Main St., Ville Platte, 04001469

St. John The Baptist Parish

Hope Plantation House, 109 S. Church St., Garyville, 04001470

MARYLAND

Baltimore Independent city

Friends Burial Ground, 2506 Harford Rd., Baltimore (Independent City), 04001471

Massachusetts

Essex County

Portland (Shipwreck and Remains), Address Restricted, Gloucester, 04001473

Middlesex County

Fairview Cemetery, Main St., Westford, 04001472

MISSOURI

Lewis County

Lewis County Courthouse, 100 E. Lafayette St., Monticello, 04001476

St. Louis Independent City

Board of Education Building, 901-911 Locust St. and 401-409 N. Ninth St., St. Louis (Independent City), 04001475

Municipal Service Building, Bounded by Clark, Spruce, 11th and Tucker, St. Louis (Independent City), 04001474

NEW JERSEY

Hunterdon County

District No. 98 Schoolhouse, 19 S. Main St., Stockton Borough, 04001477

NEW MEXICO

Los Alamos County

Lujan Road, (Homestead and Ranch School Era Roads and Trails of Los Alamos, New Mexico MPS) NE of jct. of Diamond Dr. and San Ildefonso Rd., Los Alamos, 04001478

Roosevelt County

Midway Service Station, 38797 U.S. 70, Kenna, 04001479

NEW YORK

Rockland County

Stevens, H.R., House, 234 Congers Rd., New City, 04001480

Ulster County

Hunt, George and John R., Memorial Building, 2 Liberty St., Corner of Liberty and Canal Sts., Village of Ellenville, 04001481

PENNSYLVANIA

Bedford County

Chesnut Ridge and Schellsburg Union Church and Cemetery, US 30, Napier Township, 04001482

WISCONSIN

Brown County

Grassy Island Range Lights, 100 Bay Beach Rd., Green Bay, 04001484

Douglas County

Roosevelt Terrace, 1700-1714 N. 21st St. and 2105-2109 Ogden Ave., Superior, 04001483

Forest County

Dinesen—Motzfeldt—Hettinger Log House, 3125 WI 55, Crandon, 04001486

Marinette County

Milwaukee Road Depot, 650 Hattie St., Marinette, 04001485

Vilas County

Big Sand Lake Club, 4571 Big Sand Lake Club Rd., Phelps, 04001487

[FR Doc. 04-27886 Filed 12-20-04; 8:45 am]

BILLING CODE 4312-51-P